DEPARTMENT OF COMMERCE

International Trade Administration

[A-583-858]

Certain Carbon and Alloy Steel Cut-to-Length Plate From Taiwan: Rescission of Antidumping Duty Administrative Review; 2018-2019

AGENCY: Enforcement and Compliance, International Trade Administration, Department of Commerce.

SUMMARY: The Department of Commerce (Commerce) is rescinding its administrative review of the antidumping duty (AD) order on certain carbon and alloy steel cut-to-length plate (CTL plate) from Taiwan for the period of review (POR) May 1, 2018, through April 30, 2019.

DATES: Applicable October 31, 2019.

FOR FURTHER INFORMATION CONTACT: Joshua Tucker or Darla Brown, AD/CVD Operations, Office II, Enforcement and Compliance, International Trade Administration, U.S. Department of Commerce, 1401 Constitution Avenue NW, Washington, DC 20230; telephone: (202) 482-2044 or (202) 482-1791, respectively.

SUPPLEMENTARY INFORMATION:

Background

On May 1, 2019, Commerce published in the Federal Register a notice of opportunity to request an administrative review of the AD order on CTL plate from Taiwan for the POR.¹ Commerce received a timely request from ArcelorMittal USA LLC, Nucor Corporation, and SSAB Enterprises, LLC (collectively, the petitioners), in accordance with section 751(a) of the Tariff Act of 1930, as amended (the Act), and 19 CFR 351.213(b), to conduct an administrative review of this AD order for 19 companies.²

¹ See Antidumping or Countervailing Duty Order, Finding, or Suspended Investigation; Opportunity To Request Administrative Review, 84 FR 18479 (May 1, 2019).

² See Petitioners' Letter, “Carbon and Alloy Steel Cut-To-Length Plate from Taiwan—Petitioner's Request for 2018/2019 Administrative Review,” dated May 31, 2019.

On July 15, 2019, Commerce published in the Federal Register a notice of initiation with respect to these companies.³ On October 8, 2019, the petitioners timely withdrew their request for an administrative review for all 19 companies.⁴

³ See Initiation of Antidumping and Countervailing Duty Administrative Reviews, 84 FR 33739 (July 15, 2019).

⁴ See Petitioners' Letter, “Carbon and Alloy Steel Cut-To-Length Plate from Taiwan—Petitioner's Withdrawal of Review Request for 2018/2019 Administrative Review,” dated October 8, 2019.

Rescission of Administrative Review

Pursuant to 19 CFR 351.213(d)(1), Commerce will rescind an administrative review, in whole or in part, if the parties that requested a review withdraw the request within 90 days of the date of publication of the notice of initiation of the requested review. The petitioners withdrew their request for review before the 90-day deadline, and no other party requested an administrative review of this order. Therefore, we are rescinding the administrative review of the AD order on CTL plate from Taiwan covering the period May 1, 2018, through April 30, 2019, in its entirety.

Assessment

Commerce will instruct U.S. Customs and Border Protection (CBP) to assess antidumping duties on all appropriate entries. Because Commerce is rescinding this administrative review in its entirety, the entries to which this administrative review pertained shall be assessed at rates equal to the cash deposit of estimated antidumping duties required at the time of entry, or withdrawal from warehouse, for consumption, in accordance with 19 CFR 351.212(c)(1)(i). Commerce intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is published in accordance with sections 751(a)(1) and 777(i)(1) of the Act and 19 CFR 351.213(d)(4).

Dated: October 24, 2019.
James Maeder,
Deputy Assistant Secretary for Antidumping and Countervailing Duty Operations.

[FR Doc. 2019-23772 Filed 10-30-19; 8:45 am]

BILLING CODE 3510-DS-P